DEPARTMENT OF THE INTERIOR

Bureau of Indian Affairs

[256A2100DD/AAKC001030/A0A501010.000000]

Rate Adjustments for Indian Irrigation Projects

AGENCY: Bureau of Indian Affairs, Interior.

ACTION: Notice.

SUMMARY: The Bureau of Indian Affairs (BIA) owns or has an interest in irrigation projects located on or associated with various Indian reservations throughout the United States. We are required to establish irrigation assessment rates to recover the costs to administer, operate, maintain, and rehabilitate these projects. We are notifying you that we have adjusted the irrigation assessment rates at several of our irrigation projects and facilities to reflect current costs of administration, operation, maintenance, and rehabilitation.

DATES: The 2026 Irrigation Assessment Rates are effective on January 1, 2026.

FOR FURTHER INFORMATION CONTACT: Leslie Underwood, Program Specialist, Division of Water and Power, Office of Trust Services, (406) 657-5985. For details about a particular BIA irrigation project, please use the tables in the SUPPLEMENTARY INFORMATION section to contact the BIA regional or local office where the irrigation project is located. Individuals in the United States who are deaf, deafblind, hard of hearing, or have a speech disability may dial 711 (TTY, TDD, or TeleBraille) to access telecommunications relay services.

SUPPLEMENTARY INFORMATION: A Notice of Proposed Rate Adjustment was published in the Federal Register on December 26, 2024 (89 FR 105090) to propose adjustments to the irrigation assessment rates at several BIA irrigation projects. The public and interested parties were provided an opportunity to submit written comments during the 60-day period that ended February 24, 2025.

Did BIA defer or change any proposed rate increases?

Yes. After further consideration, we have decided to defer proposed per acre increases to Flathead Irrigation Project and remain at the 2025 amounts of $39.00 for “A” acres and $19.50 for “B” acres. All other rates are to be implemented at the respective irrigation projects as proposed.

Did BIA receive any comments on the proposed irrigation assessment rate adjustments?

Yes. BIA received one written comment related to the proposed 2026 irrigation assessment rate adjustment for the BIA Fort Belknap Indian Irrigation Project (FBIIP). The comment was received by letter and email.

What issues were of concern to the commenters?

The comment received relates specifically to the proposed 2026 rate adjustment for FBIIP and other issues associated only with FBIIP. BIA's summary of the issues and responses are provided below.

Comment: The Fort Belknap Indian Community (FBIC) objects to the proposed FBIIP 2026 rate increase because irrigators are experiencing economic hardship and cannot afford an increase at this time.

Response: As noted, when rates were proposed in the Federal Register on December 26, 2024 (89 FR 105090), BIA is required to establish irrigation assessment rates that recover the costs to administer, operate, maintain, and rehabilitate our projects. As owner of FBIIP, it is BIA's responsibility to ensure adequate resources are made available to meet the requirements noted above. BIA's authority to assess rates is codified at 25 U.S.C. 381 et seq. and is addressed in BIA's regulations at 25 CFR part 171. See also February 29, 2008 (73 FR 11028 at 11039-11041). The procedures followed by BIA in adjusting its irrigation assessment rates are consistent with applicable law and past practice, and the methodology used by BIA to determine the operation and maintenance (O&M) assessment rates for FBIIP is reasonable. FBIIP is a federally owned irrigation project, which is operated and maintained by the FBIC under a P.L. 93-638 Indian Self-Determination and Education Assistance Act contract. BIA's projects are important economic contributors to the local communities they serve, but the costs associated with operating and maintaining them may increase independently of prices and costs realized by irrigators. Historically, BIA tempered O&M rates to demonstrate sensitivity to the economic impact on water users, but that practice resulted in rate deficiencies at some projects including FBIIP. FBIIP's O&M rates have not kept up with costs, resulting in a growing backlog of deferred maintenance.

The BIA used its discretion to assess and anticipate upcoming financial needs and priorities. The $5.00 per acre assessment increase for the “basic per acre” rate category is necessary to ensure FBIIP can pay its anticipated expenses for 2026. Increased expenses include hiring an additional ditch rider and maintenance needs such as cleaning and reshaping canals and ditches as well as replacement of headgates, culverts, and rehabilitation of small structures. BIA also plans to allocate a portion of the 2026 revenues to a fund for the systematic rehabilitation and replacement of FBIIP facilities. 25 CFR 171.500. Finally, in order to maintain at least the same level of O&M service, assessment rates must increase annually to keep up with rising irrigation inflation. According to the Bureau of Reclamation, irrigation O&M inflation has increased by over 6 percent in each of the last 3 years. Historical O&M Cost Index Values available at https://www.usbr.gov/assetmanagement/cost.html. Given FBIIP's assessment rate did not increase in 2025, a larger increase for 2026 is appropriate.

Comment: FBIC also states that the 2026 assessment increase should not occur because of the drought experienced in recent years and issues plaguing the distribution of water from the Milk River and Fresno Reservoir and breach of St Mary's Canal siphon.

Response: The amount of water FBIIP receives is based on its legal entitlement and availability of water supply. 25 CFR 171.205; see also Winters v. United States, 207 U.S. 564 (1908) (recognizing FBIC's historic, senior entitlement to Milk River natural flow for irrigation and other purposes).

The Bureau of Reclamation (BOR) operates and maintains the Milk River Project and Fresno Reservoir. Due to drought conditions in 2023 and 2024, the Milk River Basin experienced significantly reduced water supplies resulting in BOR calling on junior (newer) water users to cease diversions in August of each year so FBIIP could take all natural flow from the Milk River. BOR is actively monitoring this summer's drought situation and issued a press release on May 21, 2025, that Fresno Reservoir's water levels are significantly below average. While the natural flow of the Milk River is currently adequate, BOR may make a call on junior water users later this summer to allow FBIIP to take the remaining natural flow from the Milk River again this year. In addition to BOR calling on junior water right holders to protect the senior water right used by FBIIP, the BIA annually pays—subject to availability of appropriations—for the right to use one-seventh of stored water at Fresno Reservoir for the Fort Belknap Reservation. We are not aware of any Fresno Reservoir issues currently plaguing FBIIP's water distribution.

In addition to experiencing drought conditions, BOR's Milk River Project has been water short due to the June 2024 failure of the St. Mary Canal siphons at the St. Mary River crossing. The failure contributed to the Milk River Project irrigation season being shorter than normal. On June 25, 2025, water resumed flowing through the newly replaced St. Mary siphons, and BOR expects the St. Mary Canal to fully be operational going forth.

Future water shortages may still exist due to climatic conditions. However, inadequate water supply due to natural conditions or climate is not justification for BIA to delay an assessment increase. The O&M costs BIA assesses—covering personnel, equipment, maintenance, rehabilitation, etc.—persist regardless of drought conditions. See 25 CFR 171.500, 171.705.

Does this notice affect me?

This notice affects you if you own or lease land within the assessable acreage of one of our irrigation projects or if you have a carriage agreement with one of our irrigation projects.

Where can I get information on the regulatory and legal citations in this notice?

You can contact the appropriate office(s) stated in the tables for the irrigation project that serves you, or you can use the internet site for the Government Publishing Office at www.gpo.gov.

What authorizes you to issue this notice?

Our authority to issue this notice is vested in the Secretary of the Interior (Secretary) by 5 U.S.C. 301 and the Act of August 14, 1914 (38 Stat. 583; 25 U.S.C. 385). The Secretary has in turn delegated this authority to the Assistant Secretary—Indian Affairs under part 209, chapter 8.1A, of the Department of the Interior's Departmental Manual.

Whom can I contact for further information?

The following tables are the regional and project/agency contacts for our irrigation facilities.

Northwest Region Contacts
Kurt Fredenburg, Acting Regional Director, Bureau of Indian Affairs, Northwest Regional Office, 911 NE 11th Avenue, Portland, OR 97232-4169. Telephone: (505) 220-9252.
Flathead Indian Irrigation Project | Gene “Bear” Hughes, Acting Irrigation Project Manager, 220 Project Drive, St. Ignatius, MT 59865. Telephone: (406) 675-2700.
Fort Hall Irrigation Project | David Bollinger, Irrigation Project Manager, 36 Bannock Avenue, Fort Hall, ID 83203-0220. Telephone: (208) 238-1992.
Wapato Irrigation Project | Pete Plant, Project Administrator, 413 South Camas Avenue, Wapato, WA 98951-0220. Telephone: (509) 877-3155.
Rocky Mountain Region Contacts
Leslie Shakespeare, Regional Director, Bureau of Indian Affairs, Rocky Mountain Regional Office, 2021 4th Avenue North, Billings, MT 59101. Telephone: (406) 247-7943.
Blackfeet Irrigation Project | Kenneth Bird, Superintendent, Greg Tatsey, Irrigation Project Manager, P.O. Box 880, Browning, MT 59417. Telephones: Superintendent (406) 338-7544; Irrigation Project Manager (406) 338-7519.
Crow Irrigation Project | Harold “Jess” Brien, Superintendent, Richard Taptto, Acting Irrigation Project Manager (BIA), (Project O&M performed by Water Users Association), P.O. Box 69, Crow Agency, MT 59022. Telephones: Superintendent (406) 638-2672; Acting Irrigation Project Manager (406) 698-5631.
Fort Belknap Irrigation Project | Mark Azure, Superintendent, Richard Taptto, Acting Irrigation Project Manager (BIA), (Project O&M contracted to Tribes under Pub. L. 93-638), 158 Tribal Way, Suite B, Harlem, MT 59526. Telephones: Superintendent (406) 353-2901; Irrigation Project Manager, Tribal Office (406) 353-8454.
Fort Peck Irrigation Project | Anna Eder, Superintendent, Richard Taptto, Acting Irrigation Project Manager (BIA), (Project O&M performed by Fort Peck Water Users Association), P.O. Box 637, Poplar, MT 59255. Telephones: Superintendent (406) 768-5312; Acting Irrigation Project Manager (406) 698-5631.
Wind River Irrigation Project | Trish Perry, Acting Superintendent, Richard Taptto, Acting Irrigation Project Manager (BIA), (Project O&M for Little Wind, Johnstown, and Lefthand Units contracted to Tribes under Pub. L. 93-638; Little Wind-Ray and Upper Wind Units O&M performed by Ray Canal, A Canal, and Crowheart Water Users Associations), P.O. Box 158, Fort Washakie, WY 82514. Telephones: Superintendent (307) 332-7810; Acting Irrigation Project Manager (406) 698-5631.
Southwest Region Contacts
Brian Bald Eagle, Acting Regional Director, Bureau of Indian Affairs, Southwest Regional Office, 1001 Indian School Road NW, Albuquerque, NM 87104. Telephone: (505) 563-3100.
Pine River Irrigation Project | Priscilla Bancroft, Superintendent, Vickie Begay, Irrigation Project Manager, P.O. Box 315, Ignacio, CO 81137-0315. Telephones: Superintendent (970) 200-8613; Irrigation Project Manager (970) 236-4161.
Western Region Contacts
Jessie Durham, Regional Director, Bureau of Indian Affairs, Western Regional Office, 2600 North Central Avenue, 4th Floor Mailroom, Phoenix, AZ 85004. Telephone: (480) 535-1552.
Colorado River Irrigation Project | Davetta Ameelyenah, Superintendent, Irrigation Project Manager (Vacant), (Portions of Project O&M contracted to Colorado River Indian Tribes under Pub. L. 93-638), 12124 1st Avenue, Parker, AZ 85344. Telephones: Superintendent (928) 669-7111; Irrigation Project Manager (928) 662-4392; Water Resources/Irrigation Department of Colorado River Indian Tribes (928) 669-1312.
Duck Valley Irrigation Project | Jane Jackson-Bear, Superintendent, (Project O&M compacted to Shoshone-Paiute Tribes under Pub. L. 93-638), 2719 Argent Avenue, Suite 4, Gateway Plaza, Elko, NV 89801. Telephones: Superintendent (775) 738-5165; Tribal Office (208) 759-3100.
Yuma Project, Indian Unit | Maureen Brown, Superintendent, BOR owns the Project and is responsible for O&M), 256 South Second Avenue, Suite D, Yuma, AZ 85364. Telephones: Superintendent (928) 782-1202; BOR Area Office Manager (928) 343-8100.
San Carlos Irrigation Project (Indian Works and Joint Works) | Ferris Begay, General Manager (BIA), Clarence Begay, Supervisory Civil Engineer (BIA), (Indian Works O&M compacted to Gila River Indian Community under Pub. L. 93-638; Joint Control Board is responsible for portions of Joint Works maintenance pursuant to Gila River Indian Community Water Rights Settlement Act of 2004, 118 Stat. 3499), 13805 North Arizona Boulevard, Coolidge, AZ 85128. Telephones: General Manager (520) 723-6225; Supervisory Civil Engineer (520) 723-6203; Gila River Indian Irrigation & Drainage District (520) 562-6720; Joint Control Board (520) 562-9760, (520) 723-5408.
Uintah Irrigation Project | Antonio Pingree, Superintendent, Irrigation System Manager (BIA, Vacant), (Project O&M performed by Uintah Indian Irrigation Project Operation and Maintenance Company), P.O. Box 130, Fort Duchesne, UT 84026. Telephones: Superintendent (435) 722-4300; Uintah Indian Irrigation Operation and Maintenance Company (435) 724-5200.
Walker River Irrigation Project | Cheryl Sam, Acting Superintendent, 311 East Washington Street, Carson City, NV 89701. Telephone: (775) 887-3500.

What irrigation assessments or charges are adjusted by this notice?

The rate table below contains final rates for the 2025 and 2026 calendar years for all irrigation projects where we recover costs of administering, operating, maintaining, and rehabilitating them. An asterisk immediately following the rate category notes irrigation projects where 2025 rates are different from the 2026 rates.

Project name | Rate category | Final 2025 rate | Final 2026 rate
Northwest Region Rate Table
Flathead Irrigation Project (See Note #1) | Basic per acre—A | $39.00 | $39.00
| Basic per acre—B | 19.50 | 19.50
| Minimum Charge per tract * | 75.00 | 200.00
Fort Hall Irrigation Project | Basic per acre * | 66.50 | 68.00
| Minimum Charge per tract * | 43.00 | 44.50
Fort Hall Irrigation Project—Minor Units | Basic per acre * | 45.50 | 46.50
| Minimum Charge per tract * | 43.00 | 44.50
Fort Hall Irrigation Project—Michaud Unit | Basic per acre * | 75.50 | 77.50
| Pressure per acre * | 117.00 | 120.00
| Minimum Charge per tract * | 43.00 | 44.50
Wapato Irrigation Project—Toppenish/Simcoe Units | Minimum Charge per bill | 28.00 | 28.00
| Basic per acre | 28.00 | 28.00
Wapato Irrigation Project—Ahtanum Units | Minimum Charge per bill | 35.00 | 35.00
| Basic per acre | 35.00 | 35.00
Wapato Irrigation Project—Satus Unit | Minimum Charge per bill | 100.00 | 100.00
| “A” Basic per acre | 86.00 | 86.00
| “B” Basic per acre | 92.00 | 92.00
Wapato Irrigation Project—Additional Works | Minimum Charge per bill | 100.00 | 100.00
| Basic per acre | 87.00 | 87.00
Wapato Irrigation Project—Water Rental | Minimum Charge per bill | 100.00 | 100.00
| Basic per acre | 100.00 | 100.00
Rocky Mountain Region Rate Table
Blackfeet Irrigation Project | Basic-per acre * | 21.50 | 22.00
Crow Irrigation Project—Willow Creek O&M (includes Agency, Lodge Grass #1, Lodge Grass #2, Reno, Upper Little Horn, and Forty Mile Units) | Basic-per acre * | 30.00 | 34.00
Crow Irrigation Project—All Others (includes Bighorn, Soap Creek, and Pryor Units) | Basic-per acre * | 30.00 | 34.00
Crow Irrigation Project—Two Leggins Unit | Basic-per acre * | 15.00 | 17.00
Crow Irrigation Two Leggins Drainage District | Basic-per acre * | 3.00 | 5.00
Fort Belknap Indian Irrigation Project | Basic-per acre * | 20.00 | 25.00
Fort Peck Irrigation Project | Basic-per acre * | 29.00 | 35.00
Wind River Irrigation Project—Units 2, 3 and 4 | Basic-per acre * | 26.00 | 28.00
Wind River Irrigation Project—Unit 6 | Basic-per acre * | 23.00 | 28.00
Wind River Irrigation Project—LeClair District (See Note #2) | Basic-per acre | 47.00 | 47.00
Wind River Irrigation Project—Crow Heart Unit | Basic-per acre * | 16.50 | 17.50
Wind River Irrigation Project—A Canal Unit | Basic-per acre * | 16.50 | 17.50
Wind River Irrigation Project—Riverton Valley Irrigation District (See Note #2) | Basic-per acre | 30.65 | 30.65
Southwest Region Rate Table
Pine River Irrigation Project | Minimum Charge per tract | 75.00 | 75.00
| Basic-per acre * | 24.00 | 24.50
Western Region Rate Table
Colorado River Irrigation Project | Basic per acre up to 5.75 acre-feet * | 69.00 | 85.00
| Excess Water per acre-foot over 5.75 acre-feet | 18.00 | 18.00
Duck Valley Irrigation Project | Basic per acre * | 11.00 | 12.00
Yuma Project, Indian Unit (See Note #3) | Basic per acre up to 5.0 acre-feet | 222.50 | (+)
| Excess Water per acre-foot over 5.0 acre-feet | 35 | (+)
| Basic per acre up to 5.0 acre-feet (Ranch 5) | 222.50 | (+)
San Carlos Irrigation Project (Joint Works) (See Note #4) | Basic per acre * | 26.00 | 28.00

| Final 2026 Construction Water Rate Schedule:
|  | Off project construction | On project construction— gravity water | On project construction— pump water
| Administrative Fee | $300.00 | $300.00 | $300.00.
| Usage Fee | $250.00 per month | No Fee | $100.00 per acre foot.
| Excess Water Rate † | $5.00 per 1,000 gal | No Charge | No Charge.

Project name | Rate category | Final 2025 rate | Final 2026 rate
San Carlos Irrigation Project (Indian Works) (See Note #5) | Basic per acre * | $93.85 | $98.85
Uintah Irrigation Project | Basic per acre | 25.00 | 25.00
| Minimum Bill | 25.00 | 25.00
Walker River Irrigation Project | Basic per acre | 32.00 | 32.00
* Notes irrigation projects where rates are adjusted.
+ These rates have not yet been determined.
† The excess water rate applies to all water used in excess of 50,000 gallons in any one month.
Note #1: The Minimum Charge per tract for Flathead Irrigation Project is currently applied to parcels sized 2.00 acres or smaller. Starting in 2026, the Minimum Charge per tract will apply to parcels sized 4.54 acres or smaller.
Note #2: O&M rates for LeClair and Riverton Valley Irrigation Districts apply to Trust lands that are serviced by each irrigation district. The annual O&M rates are based on budgets submitted by LeClair and Riverton Valley Irrigation Districts, respectively.
Note #3: The O&M rate for the Yuma Project, Indian Unit has two components. The first component of the O&M rate is established by the BOR, the owner and operator of the Project; the BOR rate is $218.00 for 2025 but has not been established for 2026. The second component of the O&M rate is established by BIA to cover administrative costs, which includes billing and collections for the Project; the final 2025 and 2026 BIA rate component is $4.50 per acre.
Note #4: The Construction Water Rate Schedule identifies fees assessed for use of irrigation water for non-irrigation purposes.
Note #5: The O&M rate for the San Carlos Irrigation Project—Indian Works has three components. The first component is established by BIA San Carlos Irrigation Project—Indian Works; the final 2025 and 2026 rate is $55.85 per acre. The second component is established by BIA San Carlos Irrigation Project—Joint Works; the final 2025 rate is $26.00 per acre, and final 2026 rate is $28.00 per acre. The third component is established by the San Carlos Irrigation Project Joint Control Board (comprised of representatives from the Gila River Indian Community and the San Carlos Irrigation and Drainage District); the 2025 rate is $12.00 per acre, and 2026 rate is $15.00 per acre.

Consultation and Coordination With Tribal Governments (Executive Order 13175)

The Department of the Interior strives to strengthen its government-to-government relationship with Indian Tribes through a commitment to consultation with Indian Tribes and recognition of their right to self-governance and Tribal sovereignty. We have evaluated this notice under the Department's consultation policy and under the criteria of Executive Order 13175 and have determined there to be substantial direct effects on federally recognized Tribes because the irrigation projects are located on or associated with Indian reservations. To fulfill its consultation responsibility to Tribes and Tribal organizations, BIA communicates, coordinates, and consults on a continuing basis with these entities on issues of water delivery, water availability, and costs of administration, operation, maintenance, and rehabilitation of projects that concern them. This is accomplished at the individual irrigation project by project, agency, and regional representatives, as appropriate, in accordance with local protocol and procedures. This notice is one component of our overall coordination and consultation process to provide notice to, and request comments from, these entities when we adjust irrigation assessment rates.

Actions Concerning Regulations That Significantly Affect Energy Supply, Distribution, or Use (Executive Order 13211)

These rate adjustments are not a significant energy action under the definition in Executive Order 13211. A statement of energy effects is not required.

Regulatory Planning and Review (Executive Order 12866)

These rate adjustments are not a significant regulatory action and do not need to be reviewed by the Office of Management and Budget under Executive Order 12866.

Regulatory Flexibility Act

These rate adjustments are not a rule for the purposes of the Regulatory Flexibility Act because they establish “a rule of particular applicability relating to rates.” 5 U.S.C. 601(2).

Unfunded Mandates Reform Act of 1995

These rate adjustments do not impose an unfunded mandate on State, local, or Tribal governments in the aggregate, or on the private sector, of more than $130 million per year. They do not have a significant or unique effect on State, local, or Tribal governments or the private sector. Therefore, the Department is not required to prepare a statement containing the information required by the Unfunded Mandates Reform Act (2 U.S.C. 1531 et seq.).

Takings (Executive Order 12630)

These rate adjustments do not effect a taking of private property or otherwise have “takings” implications under Executive Order 12630. The rate adjustments do not deprive the public, State, or local governments of rights or property.

Federalism (Executive Order 13132)

Under the criteria in section 1 of Executive Order 13132, these rate adjustments do not have sufficient federalism implications to warrant the preparation of a federalism summary impact statement because they will not affect the States, the relationship between the national government and the States, or the distribution of power and responsibilities among the various levels of government. A federalism summary impact statement is not required.

Civil Justice Reform (Executive Order 12988)

This notice complies with the requirements of Executive Order 12988. Specifically, in issuing this notice, the Department has taken the necessary steps to eliminate drafting errors and ambiguity, minimize potential litigation, and provide a clear legal standard for affected conduct as required by section 3 of Executive Order 12988.

Paperwork Reduction Act of 1995

These rate adjustments do not affect the collections of information which have been approved by the Office of Information and Regulatory Affairs, Office of Management and Budget (OMB) under the Paperwork Reduction Act of 1995. The OMB Control Number is 1076-0141 and expires March 31, 2026.

National Environmental Policy Act

The Department has determined that these rate adjustments do not constitute a major Federal action significantly affecting the quality of the human environment. A detailed statement under the National Environmental Policy Act of 1969 (NEPA) is not required because the rate adjustments are of an administrative, financial, legal, technical, or procedural nature. (For further information see 43 CFR 46.210(i)). We have also determined that the rate adjustments would not involve any of the extraordinary circumstances listed in 43 CFR 46.215 that would require further analysis under NEPA.

Scott J. Davis,
Senior Advisor to the Secretary of the Interior, Exercising the Delegated Authority of the Assistant Secretary—Indian Affairs.

[FR Doc. 2025-16221 Filed 8-22-25; 8:45 am]

BILLING CODE 4337-15-P